DEPARTMENT OF STATE

Redelegation of Authorities by the Secretary of State, From the Under Secretary of State for Public Diplomacy and Public Affairs to the Assistant Secretary of State for Public Affairs; Delegation of Authority 242

By virtue of the authority vested in me by the laws of the United States, including the Mutual Educational and Cultural Exchange Act of 1961, the United States Information and Educational Exchange Act of 1948, and the State Department Basic Authorities Act of 1956, I hereby delegate to Richard A. Boucher, the Assistant Secretary for Public Affairs, to the extent authorized by law, all authorities vested in the Under Secretary of State for Public Diplomacy and Public Affairs, including all authorities vested in the Secretary of State that have been or may be delegated or redelegated to that Under Secretary.

Any authorities covered by this delegation may also be exercised by the Deputy Secretary, the Under Secretary for Political Affairs, or the Under Secretary for Economic, Business and Agricultural Affairs.

This delegation shall expire upon the appointment of an individual to serve as Under Secretary of State for Public Diplomacy and Public Affairs.

This memorandum shall be published in the Federal Register.

Dated: January 22, 2001.
Colin L. Powell,
Secretary of State.

[FR Doc. 01-4887 Filed 3-1-01; 8:45 am]

BILLING CODE 4710-10-U